DEPARTMENT OF HOMELAND SECURITY

U.S. Citizenship and Immigration Services

[OMB Control Number 1615-0124]

Agency Information Collection Activities: Consideration of Deferred Action for Childhood Arrivals, Form I-821D, OMB Control No. 1615-0124; Correction

ACTION: 30-Day notice of proposed information collection; correction.

On April 4, 2013, the Department of Homeland Security, U.S. Citizenship and Immigration Services (USCIS) published a 30-day Notice of Information Collection in the Federal Register at 79 FR 18925, requesting public comments in connection with Consideration of Deferred Action for Childhood Arrivals, Form I-821D in accordance with the Paperwork Reduction Act of 1995.

USCIS instructed the public to visit http://www.regulations.gov to review a copy of the information collection instrument and the supplementary documents. In the Notice, USCIS did not include the e-Docket ID number which would allow for easier access to these documents. For a copy of the information collection instrument with the supplementary documents, please visit www.regulations.gov under e-Docket ID number USCIS-2012-0012.

The remainder of the published Notice is correct as presented and no changes have been made. The comment period as listed in the original Notice publication remains unchanged and closes as posted.

Dated: April 9, 2014.
Laura Dawkins,
Chief Regulatory Coordinator, Regulatory Coordination Division, Office of Policy and Strategy, U.S. Citizenship and Immigration Services, Department of Homeland Security.

[FR Doc. 2014-08410 Filed 4-14-14; 8:45 am]

BILLING CODE 9111-97-P